DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Board of Visitors of the U.S. Air Force Academy (“the Board”).

FOR FURTHER INFORMATION CONTACT: James Freeman, Advisory Committee Management Officer for the Department of Defense, 703-692-5952.

SUPPLEMENTARY INFORMATION: This committee's charter is being renewed pursuant to the Federal Advisory Committee Act of 1972 (5 U.S.C. Appendix, as amended), the Government in the Sunshine Act of 1976 (5 U.S.C. 552b) (“the Sunshine Act”), and 41 CFR 102-3.50(d).

The Board is a non-discretionary Federal advisory committee that shall provide independent advice and recommendations on matters relating to the U.S. Air Force Academy, to include morale, discipline, and social climate, the curriculum, instruction, physical equipment, fiscal affairs, academic methods, and other matters relating to the Academy that the Board decides to consider.

The Board shall prepare a semiannual report containing its views and recommendations pertaining to the U.S. Air Force Academy, based on its meeting since the last such report and any other considerations it determines relevant. Each such report shall be submitted concurrently to the Secretary of Defense, through the Secretary of the Air Force, and to the Committee on Armed Services of the Senate and the Committee on Armed Services of the House of Representatives. The DoD, through the Department of the Air Force, provides the necessary support for the performance of the Board's functions and ensures compliance with the requirements of the FACA, the Sunshine Act, governing Federal statutes and regulations, and established DoD policies and procedures.

The Board, pursuant to 10 U.S.C. 9355 (a) and (b)(2), shall be constituted annually and composed of 15 members. The Board membership shall include:

a. Six persons designated by the President, at least two of whom shall be graduates of the Academy;

b. The Chairperson of the Committee on Armed Services of the House of Representatives, or designee;

c. Four persons designated by the Speaker of the House of Representatives, three of whom shall be members of the House of Representatives and the fourth of whom may not be a member of the House of Representatives;

d. The Chairperson of the Committee on Armed Services of the Senate, or designee; and

e. Three other members of the Senate designated by the Vice President or the President pro tempore of the Senate, two of whom are members of the Committee on Appropriations of the Senate.

Board members designated by the President shall serve for three years each, except that any member whose term of office has expired shall continue to serve until a successor is appointed. In addition, the President shall designate persons each year to succeed the members whose terms expire that year.

If a member of the Board dies, resigns, or is terminated, a successor shall be designated for the unexpired portion of the term by the official who designated the member. The Secretary of the Air Force members shall select the Board Chair and Vice Chair from the total membership. Board members who are full-time or permanent part-time Federal Officers or employees shall be appointed as regular government employees or ex officious, as appropriate. Board members designated by the President or the Congress, who are not full-time or permanent part-time Federal officers or employees, shall be appointed to serve as special government employees (SGEs) under the authority of 5 U.S.C. 3109.

With the exception of travel and per diem for official travel, Board members serve without compensation. If a member of the Board fails to attend two successive Board meetings, except in a case in which an absence is approved in advance for good cause by the Board Chairperson, such failure shall be grounds for termination from membership on the Board, pursuant to 10 U.S.C. 9355(c)(2)(A) (“absenteeism provision”).

Termination of membership on the Board pursuant to the absenteeism provision, in the case of a member of the Board who is not a member of Congress, may be made by the Board's Chair and, in the case of a member of the Board who is a member of Congress, may be made only by the official who designated the member. When a member of the Board is subject to termination from membership on the Board under the absenteeism provision, the Board's Chairperson shall notify the official who designated the member. Upon receipt of such a notification with respect to a member of the Board who is a member of Congress, the official who designated the member shall take such action as that official considers appropriate.

Board members who are full-time or permanent part-time Federal Officers or employees shall be appointed as regular government employees or ex officious, as appropriate. Board members designated by the President or the Congress, who are not full-time or permanent part-time Federal officers or employees, shall be appointed to serve as special government employees (SGEs) under the authority of 5 U.S.C. 3109.

The DoD, when necessary and consistent with the Board's mission and DoD policies and procedures, may establish subcommittees, task groups, or working groups to support the Board. Establishment of subcommittees will be based upon written determination, to include terms of reference, by the Secretary of Defense, the Deputy Secretary of Defense, or the Secretary of the Air Force, as the Board's sponsor.

Such subcommittees or workgroups shall not work independently of the chartered Board, and shall report all their recommendations and advice solely to the Board for full deliberation and discussion. Subcommittees, task forces, working groups have no authority to make decisions and recommendations, verbally or in writing, on behalf of the chartered Board; nor can any subcommittee or its members update or report, verbally or in writing, directly to the DoD or any Federal officers or employees.

All subcommittee members shall be appointed by the Secretary of Defense according to governing DoD policies/procedures, even if the member in question is already a Board member. Such individuals shall be appointed to serve as experts and consultants under the authority of 5 U.S.C. 3109, and shall serve as special government employees. Subcommittee members, with the approval of the Secretary of Defense, may serve a term of service on the subcommittee of one-to-four years; however, no subcommittee member shall serve more than two consecutive terms of service unless otherwise authorized by the Secretary of Defense. All subcommittee appointments must be renewed on an annual basis. With the exception of travel and per diem, Subcommittee members shall serve without compensation.

Pursuant to 41 CFR 102-3.105(j) and 102-3.140, the public or interested organizations may submit written statements to Board of Visitors of the U.S. Air Force Academy membership about the Board's mission and functions. Written statements may be submitted at any time or in response to the stated agenda of planned meeting of the Board of Visitors of the U.S. Air Force Academy.

The Board shall meet at the call of the Board's Designated Federal Officer (DFO), in consultation with the Board's Chair. The estimated number of Board meetings is at least four per year, with at least two of those meetings taking place at the Academy. All written statements shall be submitted to the DFO for the Board of Visitors of the U.S. Air Force Academy, and this individual will ensure that the written statements are provided to the membership for their consideration. Contact information for the Board of Visitors of the U.S. Air Force Academy DFO can be obtained from the GSA's FACA Database— http://www.facadatabase.gov/.

The DFO, pursuant to 41 CFR 102-3.150, will announce planned meetings of the Board of Visitors of the U.S. Air Force Academy. The DFO, at that time, may provide additional guidance on the submission of written statements that are in response to the stated agenda for the planned meeting in question.

Dated: November 13, 2014.
Aaron Siegel,
Alternate OSD Federal Register Liaison Officer, Department of Defense.

[FR Doc. 2014-27278 Filed 11-17-14; 8:45 am]

BILLING CODE 5001-06-P